DEPARTMENT OF HEALTH AND HUMAN SERVICES

Food and Drug Administration

[Docket No. FDA-2012-N-1021]

Notice to Public of Website Location of Center for Devices and Radiological Health Fiscal Year 2022 Proposed Guidance Development

Correction

In notice document 2021-23392, appearing on pages 59399 through 59401 in the issue of Wednesday, October 27, 2021, make the following correction:

On page 59399, in the second column, in the DATES section, on the second and third lines, “November 26, 2021” should read, “December 27, 2021”.

[FR Doc. C1-2021-23392 Filed 11-18-21; 8:45 am]

BILLING CODE 0099-10-D